DEPARTMENT OF THE INTERIOR

Fish and Wildlife Service

[FWS-R9-IA-2008-N0238; 96300-1671-0000-P5]

Receipt of Applications for Permit

AGENCY: Fish and Wildlife Service, Interior.

ACTION: Notice of receipt of applications for permit.

SUMMARY: The public is invited to comment on the following applications to conduct certain activities with endangered species.

DATES: Written data, comments or requests must be received by October 30, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: The Science and Conservation Center, Zoo Montana, Billings, MT, PRT-187319.

The applicant requests a permit to import blood samples from 4 female captive bred Przewalski's horses (Equus przewalskii) at the Association pour le cheval de Przewalski, France, for the purpose of enhancement of the propagation or survival of the species. This notification covers a one-time import.

Applicant: North Carolina Wildlife Resources Commission, Beaufort, NC, PRT-192398.

The applicant requests a permit to import one live stranded Kemp's ridley (Lepidochelys kempii) sea turtle from the United Kingdom for the purpose of enhancement of the survival of the species.

Applicant: Virginia Safari Park, Natural Bridge, VA, PRT-192751.

The applicant requests a permit to import two male captive-bred cheetahs (Acinonyx jubatus) from the De Wildt Cheetah Breeding Center, South Africa for the purpose of enhancement of the survival of the species.

Applicant: Houston Zoo, Inc., Houston, TX, PRT-192243.

The applicant requests a permit to purchase in interstate commerce one female Asian elephant (Elephas maximus) born in the wild during 1983 from Have Trunk Will Travel, Perris, California for the purpose of enhancement of the survival of the species.

Applicant: Ricardo Longoria, Laredo, TX, PRT-192403.

The applicant requests a permit authorizing take, interstate and foreign commerce of swamp deer (Rucervus duvaucelii), from his captive herd for the purpose of enhancement of the survival of the species. This notification covers activities conducted by the applicant over a five-year period.

Applicant: Arno W. Weiss, St. Charles, MI, PRT-191092.

The applicant requests a permit to import the sport-hunted trophy of one male bontebok (Damaliscus pygargus pygargus) culled from a captive herd maintained under the management program of the Republic of South Africa, for the purpose of enhancement of the survival of the species.

Applicant: Eldon R. Bell, San Angelo, TX, PRT-191126.

The applicant requests a permit to import the sport-hunted trophy of one male bontebok (Damaliscus pygargus pygargus) culled from a captive herd maintained under the management program of the Republic of South Africa, for the purpose of enhancement of the survival of the species.

Applicant: Bruce R. Schoeneweis, Alton, IL, PRT-191134.

The applicant requests a permit to import the sport-hunted trophies of two male bonteboks (Damaliscus pygargus pygargus) culled from a captive herd maintained under the management program of the Republic of South Africa, for the purpose of enhancement of the survival of the species.

Dated: August 22, 2008.
Lisa J. Lierheimer,
Senior Permit Biologist, Branch of Permits, Division of Management Authority.

[FR Doc. E8-22955 Filed 9-29-08; 8:45 am]

BILLING CODE 4310-55-P